GENERAL SERVICES ADMINISTRATION

Privacy Act of 1974; Notice of Updated Systems of Records

AGENCY: General Services Administration.

ACTION: Notice.

SUMMARY: GSA reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA undertook and completed an agency wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also includes the new requirement from OMB Memorandum M-07-16 regarding a new routine use that allows agencies to disclose information in connection with a response and remedial efforts in the event of a data breach.

Dated: April 16, 2008.
Cheryl M. Paige,
Director, Office of Information Management.

GSA/HRO-4

SYSTEM NUMBER:

GSA/HRO-4.

SYSTEM NAME:

Labor-Management Relations Files.

SYSTEM LOCATION:

The system is in the Office of Human Resources Services at GSA (CPL) at 18th & F Streets, NW., Washington, DC 20405, and service and staff offices throughout GSA. The Offices are as follows:

Central Office, Central Office Human Resources Division (CPL), General Services Administration, 1800 F Street, NW., Washington, DC 20405. (202) 501-0040.

National Capital Region, Human Resources Office (WCP), General Services Administration, 7th and D Streets, SW., Washington, DC 20407. (202) 708-5335.

New England Region, Human Resources Office (1CP), General Services Administration, 10 Causeway Street, Boston, MA 02222. (617) 565-6634.

Northeast and Caribbean Region, Human Resources Office (2AR), General Services Administration, 26 Federal Plaza, New York, NY 10278. (212) 264-8138.

Mid-Atlantic Region, Human Resources Office (3CP), General Services Administration, The Strawbridge Building, 20 North Eighth Street, Philadelphia, PA 19107-3191. (215) 446-4951.

Southeast Sunbelt Region, Office of Human Resources (4AH), General Services Administration, 77 Forsyth Street, Suite 650, Atlanta, GA 30303. (404) 331-3186.

Great Lakes Region, Human Resources Office (5CP), General Services Administration, 230 South Dearborn Street, Chicago, IL 60604. (312) 353-5550.

The Heartland Region, Human Resources Office (6CP), General Services Administration, 1500 East Bannister Road, Kansas City, MO 64131. (816) 926-7206.

Greater Southwest Region, Human Resources Office (7CP), General Services Administration, 819 Taylor Street, Room 9A00, Forth Worth, TX 76102. (817) 978-3190.

Region 8 Human Resource Office (7CP-8), W. 6th Avenue & Kipling Street, Room: 210, Lakewood, CO 80225-0000.

Pacific Rim Region, Human Resources Office (9CP), General Services Administration, 450 Golden Gate Avenue, San Francisco, CA 94100. (415) 744-5185.

Auburn On-Site Support Group (9CPA), 400 15th Street, SW., Room: 1008, Auburn, WA 98001.

PERSONS COVERED BY THE SYSTEM:

GSA employees who are union officials or who are in an exclusively recognized union. It includes GSA employees who file a grievance under the negotiated grievance procedure.

TYPES OF RECORDS IN THE SYSTEM:

Records include:

1. List of employees who are elected or appointed as National union officers or officials.

2. National arbitration awards based on an employee or union grievance.

AUTHORITY FOR MAINTENANCE OF THE SYSTEM:

Authority for maintaining the system comes from 5 U.S.C. Chapter 71.

ROUTINE USES OF RECORDS MAINTAINED IN THE SYSTEM, INCLUDING TYPES OF USERS AND THEIR PURPOSE IN USING THEM:

a. To identify and record employees who are included in an exclusively recognized union, are under dues withholding, are elected or appointed as union officers, whose grievances have been resolved by arbitration, and who use official time for representing employees.

b. To the Department of Labor in carrying out its functions regarding labor-management relations in the Federal service.

c. To officials of labor organizations recognized under Pub. L. 95-454, when needed for their duties of exclusive representation concerning personnel policies, practices, and matters affecting working conditions.

d. In any legal proceeding, where pertinent, to which GSA is a party before a court our administrative body.

e. To authorized officials engaged in investigating or settling a grievance, complaint, or appeal filed by an individual who is the subject of the record.

f. By the Office of Personnel Management in producing descriptive statistics to support the function for which the records are collected and maintained or for related work force studies. While published statistics and studies do not identify individuals, in some instances data elements in a study may be structured so as to allow an individual to be identified by inference.

g. To disclose information to the Office of Management and Budget in reviewing private relief legislation at any stage of the clearance process.

h. To disclose information to officials of the Merit System Protection Board, including the Office of Special Counsel; the Federal Labor Relations Authority and its General Counsel; or the Equal Employment Opportunity Commission when requested in performing official duties.

i. To the Office of Personnel Management (OPM), the Office of Management and Budget (OMB), or the Government Accountability Office (GAO) when the information is required for program evaluation purposes.

j. To a Member of Congress or staff on behalf of and at the requests of the individual who is the subject of the record.

k. To the extent that official personnel records in the custody of GSA are covered within systems of records published by the Office of Personnel Management as Government-wide system, they are considered part of the Government-wide system. Other official personnel records covered by notices published by GSA and considered to be separate systems of records may be transferred to the Office of Personnel Management under official personnel programs and activities as a routine use.

l. To an expert, consultant, or contractor of GSA in the performance of a Federal duty to which the information is relevant.

m. To the National Archives and Records Administration (NARA) for records management purposes.

n. To appropriate agencies, entities, and persons when (1) The Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING, AND DISPOSING OF RECORDS IN THE SYSTEM:

STORAGE:

Paper records and/or system generated inquiries are stored in file cabinets.

RETRIEVABILITY:

The records are filed numerically and/or alphabetically by name.

SAFEGUARDS:

When not in use by an authorized person, the records are stored in locked metal file cabinets or in secured rooms.

RETENTION AND DISPOSAL:

The Office of Human Resources Services disposes of the records as scheduled in the HB, GSA Records Maintenance and Disposition System (OAD P 1820.2A).

SYSTEM MANAGER(S) AND ADDRESS:

Director, Labor Relations Division (CPL), Office of Human Resources Services, 1800 F Street, NW., Washington, DC 20405.

NOTIFICATION PROCEDURE:

Current employees may obtain information about whether they are a part of the system by contacting the designated office where the action was processed.

RECORD ACCESS PROCEDURES:

Requests from current employees to review information about themselves should be directed to the designated office where the action was processed. For the identification required, see 41 CFR part 105-64.

PROCEDURE TO CONTEST A RECORD:

GSA rules for reviewing a record, contesting the content, and appealing an initial decision are 41 CFR part 105-64.

RECORD SOURCES:

Officials who manage records pertaining to employees who are union officials or in an exclusively recognized union and employees who have filed a grievance under the negotiated grievance procedure.

[FR Doc. E8-8889 Filed 4-24-08; 8:45 am]

BILLING CODE 6820-34-P